SMALL BUSINESS ADMINISTRATION

Public Federal Regulatory Enforcement Fairness Roundtable; Region II Regulatory Fairness Board

The Small Business Administration Region II Regulatory Fairness Board and the SBA Office of the National Ombudsman will hold a Public Roundtable on Wednesday, April 28, 2004, at 8:30 a.m. at the Ridge Hill Plaza Development Corporation, 1 Ridge Hill Road, South Ridge Room, Yonkers, NY 10710-5511, to provide small business owners and representatives of trade associations with an opportunity to share information concerning the Federal regulatory enforcement and compliance environment.

Anyone wishing to attend or to make a presentation must contact Herbert Austin in writing or by fax, in order to be put on the agenda. Herbert Austin, Deputy Director, SBA New York District Office, 26 Federal Plaza, Suite 31-08, New York, NY 10278, phone (212) 264-1482, fax (212) 264-7751, e-mail: herbert.austin@sba.gov.

For more information, see our Web site at http://www.sba.gov/ombudsman.

Dated: April 8, 2004.
Peter Sorum,
Senior Advisor, Office of the National Ombudsman.

[FR Doc. 04-8426 Filed 4-13-04; 8:45 am]

BILLING CODE 8025-01-P